DEPARTMENT OF TRANSPORTATION

Federal Aviation Administration

14 CFR Part 97

[Docket No. 31378; Amdt. No. 3964]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective July 13, 2021. The compliance date for each SIAP, associated Takeoff Minimums, and ODP is specified in the amendatory provisions.

The incorporation by reference of certain publications listed in the regulations is approved by the Director of the Federal Register as of July 13, 2021.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Information Services, 6500 South MacArthur Blvd., Oklahoma City, OK 73169 or,

4. The National Archives and Records Administration (NARA).

For information on the availability of this material at NARA, email fedreg.legal@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends 14 CFR part 97 by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on June 25, 2021.
Wade E.K. Terrell,
Aviation Safety, Flight Standards Service, Manager (A), Flight Technologies and Procedures Division.

Adoption of the Amendment

Accordingly, pursuant to the authority delegated to me, Title 14, CFR part 97, is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
12-Aug-21 | OH | Georgetown | Brown County | 0/2805 | 5/19/21 | RNAV (GPS) RWY 36, Orig-B.
12-Aug-21 | FL | Marathon | The Florida Keys Marathon Intl | 1/0513 | 6/16/21 | NDB-A, Orig-A.
12-Aug-21 | IA | Ames | Ames Muni | 1/1030 | 6/10/21 | VOR RWY 31, Amdt 10A.
12-Aug-21 | NM | Raton | Raton Muni/Crews Fld | 1/1073 | 5/7/21 | RNAV (GPS) RWY 25, Orig-B.
12-Aug-21 | IA | Ames | Ames Muni | 1/1234 | 6/10/21 | RNAV (GPS) RWY 1, Amdt 2A.
12-Aug-21 | AK | Anchorage | Merrill Fld | 1/1307 | 5/12/21 | RNAV (GPS)-A, Amdt 1A.
12-Aug-21 | CA | San Luis Obispo | San Luis County Rgnl | 1/1311 | 5/12/21 | LOC RWY 11, Orig-B.
12-Aug-21 | CA | San Luis Obispo | San Luis County Rgnl | 1/1314 | 5/12/21 | VOR OR TACAN-A, Amdt 6B.
12-Aug-21 | NE | Lincoln | Lincoln | 1/1619 | 6/15/21 | RNAV (GPS) RWY 14, Amdt 1A.
12-Aug-21 | NE | Lincoln | Lincoln | 1/1621 | 6/15/21 | RNAV (GPS) RWY 18, Amdt 1B.
12-Aug-21 | NE | Lincoln | Lincoln | 1/1623 | 6/15/21 | RNAV (GPS) RWY 36, Amdt 1C.
12-Aug-21 | NE | Lincoln | Lincoln | 1/1625 | 6/15/21 | VOR RWY 17, Amdt 7.
12-Aug-21 | NE | Lincoln | Lincoln | 1/1627 | 6/15/21 | RNAV (GPS) RWY 32, Orig-A.
12-Aug-21 | CA | Petaluma | Petaluma Muni | 1/1639 | 4/23/21 | RNAV (GPS) RWY 29, Orig-B.
12-Aug-21 | TN | Athens | Mcminn County | 1/1863 | 4/23/21 | RNAV (GPS) RWY 20, Amdt 1B.
12-Aug-21 | TN | Athens | Mcminn County | 1/1864 | 4/23/21 | RNAV (GPS) RWY 2, Orig-B.
12-Aug-21 | NM | Roswell | Roswell Air Center | 1/2188 | 4/14/21 | RNAV (GPS) RWY 21, Orig-A.
12-Aug-21 | NM | Farmington | Four Corners Rgnl | 1/2585 | 6/15/21 | ILS OR LOC RWY 25, Amdt 7D.
12-Aug-21 | NM | Farmington | Four Corners Rgnl | 1/2586 | 6/15/21 | RNAV (GPS) RWY 23, Amdt 1.
12-Aug-21 | NM | Farmington | Four Corners Rgnl | 1/2587 | 6/15/21 | RNAV (GPS) RWY 25, Amdt 1.
12-Aug-21 | NM | Farmington | Four Corners Rgnl | 1/2589 | 6/15/21 | RNAV (GPS) RWY 5, Amdt 1.
12-Aug-21 | NM | Farmington | Four Corners Rgnl | 1/2591 | 6/15/21 | RNAV (GPS) RWY 7, Amdt 2.
12-Aug-21 | NM | Farmington | Four Corners Rgnl | 1/2593 | 6/15/21 | VOR/DME RWY 5, Orig.
12-Aug-21 | NM | Farmington | Four Corners Rgnl | 1/2594 | 6/15/21 | VOR/DME RWY 7, Amdt 4A.
12-Aug-21 | NC | Lumberton | Lumberton Rgnl | 1/2623 | 6/16/21 | ILS OR LOC RWY 5, Amdt 1C.
12-Aug-21 | NC | Lumberton | Lumberton Rgnl | 1/2624 | 6/16/21 | RNAV (GPS) RWY 13, Orig-B.
12-Aug-21 | NC | Lumberton | Lumberton Rgnl | 1/2626 | 6/16/21 | RNAV (GPS) RWY 23, Orig-B.
12-Aug-21 | NC | Lumberton | Lumberton Rgnl | 1/2628 | 6/16/21 | RNAV (GPS) RWY 5, Orig-B.
12-Aug-21 | NC | Washington | Washington-Warren | 1/2648 | 6/16/21 | LOC RWY 5, Amdt 1C.
12-Aug-21 | NC | Washington | Washington-Warren | 1/2649 | 6/16/21 | RNAV (GPS) RWY 35, Amdt 1A.
12-Aug-21 | NC | Washington | Washington-Warren | 1/2651 | 6/16/21 | RNAV (GPS) RWY 23, Amdt 1A.
12-Aug-21 | NC | Washington | Washington-Warren | 1/2652 | 6/16/21 | RNAV (GPS) RWY 5, Amdt 1B.
12-Aug-21 | NY | Farmingdale | Republic | 1/2683 | 6/10/21 | ILS OR LOC RWY 14, Amdt 8E.
12-Aug-21 | TX | Big Spring | Big Spring Mc Mahon-Wrinkle | 1/2902 | 3/22/21 | RNAV (GPS) RWY 6, Orig-B.
12-Aug-21 | IL | Pekin | Pekin Muni | 1/3113 | 6/17/21 | RNAV (GPS) RWY 9, Orig-A.
12-Aug-21 | IL | Pekin | Pekin Muni | 1/3114 | 6/17/21 | RNAV (GPS) RWY 27, Orig-A.
12-Aug-21 | IL | Pekin | Pekin Muni | 1/3115 | 6/17/21 | VOR-A, Amdt 7A.
12-Aug-21 | AK | Valdez | Valdez Pioneer Fld | 1/3168 | 5/17/21 | LDA-H, Amdt 2B.
12-Aug-21 | SC | Moncks Corner | Berkeley County | 1/3246 | 5/27/21 | VOR/DME-A, Orig-A.
12-Aug-21 | OH | Dayton | Greene County-Lewis A Jackson Rgnl | 1/3479 | 3/22/21 | RNAV (GPS) RWY 25, Amdt 1.
12-Aug-21 | OH | Akron | Akron-Canton Rgnl | 1/3746 | 6/10/21 | ILS OR LOC RWY 1, Amdt 38A.
12-Aug-21 | OH | Akron | Akron-Canton Rgnl | 1/3747 | 6/10/21 | ILS OR LOC RWY 19, Amdt 8A.
12-Aug-21 | OH | Akron | Akron-Canton Rgnl | 1/3748 | 6/10/21 | ILS OR LOC RWY 23, Amdt 11B.
12-Aug-21 | OH | Akron | Akron-Canton Rgnl | 1/3749 | 6/10/21 | ILS OR LOC RWY 5, Orig-B.
12-Aug-21 | OH | Akron | Akron-Canton Rgnl | 1/3750 | 6/10/21 | RNAV (GPS) RWY 1, Orig-A.
12-Aug-21 | OH | Akron | Akron-Canton Rgnl | 1/3751 | 6/10/21 | RNAV (GPS) RWY 19, Orig-A.
12-Aug-21 | OH | Akron | Akron-Canton Rgnl | 1/3754 | 6/10/21 | RNAV (GPS) RWY 23, Orig-B.
12-Aug-21 | OH | Akron | Akron-Canton Rgnl | 1/3755 | 6/10/21 | RNAV (GPS) RWY 5, Orig-B.
12-Aug-21 | OH | Akron | Akron-Canton Rgnl | 1/3756 | 6/10/21 | VOR RWY 23, Amdt 10.
12-Aug-21 | OH | Akron | Akron-Canton Rgnl | 1/3757 | 6/10/21 | VOR RWY 5, Amdt 3A.
12-Aug-21 | NY | Farmingdale | Republic | 1/3942 | 6/10/21 | RNAV (GPS) Y RWY 14, Amdt 2D.
12-Aug-21 | CA | Santa Ynez | Santa Ynez | 1/3984 | 4/23/21 | GPS-A, Orig-C.
12-Aug-21 | PA | Pottstown | Pottstown Muni | 1/4096 | 6/16/21 | RNAV (GPS) RWY 26, Orig-A.
12-Aug-21 | PA | Pottstown | Pottstown Muni | 1/4097 | 6/16/21 | VOR-B, Amdt 5A.
12-Aug-21 | NE | Hartington | Hartington Muni/Bud Becker Fld | 1/4168 | 3/22/21 | RNAV (GPS) RWY 31, Orig-D.
12-Aug-21 | MO | Neosho | Neosho Hugh Robinson | 1/4417 | 6/8/21 | RNAV (GPS) RWY 1, Amdt 1A.
12-Aug-21 | MO | Neosho | Neosho Hugh Robinson | 1/4418 | 6/8/21 | RNAV (GPS) RWY 19, Amdt 1A.
12-Aug-21 | IA | Rock Rapids | Rock Rapids Muni | 1/4659 | 3/22/21 | RNAV (GPS) RWY 34, Amdt 1.
12-Aug-21 | SC | Moncks Corner | Berkeley County | 1/4803 | 5/27/21 | RNAV (GPS) RWY 5, Orig.
12-Aug-21 | SC | Moncks Corner | Berkeley County | 1/4824 | 5/27/21 | RNAV (GPS) RWY 23, Orig-A.
12-Aug-21 | KY | Covington | Cincinnati/Northern Kentucky Intl | 1/4910 | 6/10/21 | ILS OR LOC RWY 9, Amdt 18A.
12-Aug-21 | KY | Covington | Cincinnati/Northern Kentucky Intl | 1/4911 | 6/10/21 | ILS OR LOC RWY 18L, Amdt 7B.
12-Aug-21 | KY | Covington | Cincinnati/Northern Kentucky Intl | 1/4912 | 6/10/21 | ILS OR LOC RWY 18R, Amdt 1B.
12-Aug-21 | KY | Covington | Cincinnati/Northern Kentucky Intl | 1/4913 | 6/10/21 | ILS OR LOC RWY 36C, Amdt 41C.
12-Aug-21 | KY | Covington | Cincinnati/Northern Kentucky Intl | 1/4914 | 6/10/21 | ILS OR LOC RWY 36L, Amdt 1B.
12-Aug-21 | KY | Covington | Cincinnati/Northern Kentucky Intl | 1/4915 | 6/10/21 | ILS OR LOC RWY 36R, Amdt 8B.
12-Aug-21 | KY | Covington | Cincinnati/Northern Kentucky Intl | 1/4916 | 6/10/21 | RNAV (GPS) Y RWY 9, Amdt 1A.
12-Aug-21 | KY | Covington | Cincinnati/Northern Kentucky Intl | 1/4917 | 6/10/21 | RNAV (GPS) Y RWY 18C, Amdt 1C.
12-Aug-21 | KY | Covington | Cincinnati/Northern Kentucky Intl | 1/4918 | 6/10/21 | RNAV (GPS) Y RWY 18L, Amdt 1C.
12-Aug-21 | KY | Covington | Cincinnati/Northern Kentucky Intl | 1/4919 | 6/10/21 | RNAV (GPS) Y RWY 18R, Amdt 1C.
12-Aug-21 | KY | Covington | Cincinnati/Northern Kentucky Intl | 1/4920 | 6/10/21 | RNAV (GPS) Y RWY 27, Orig-B.
12-Aug-21 | KY | Covington | Cincinnati/Northern Kentucky Intl | 1/4922 | 6/10/21 | RNAV (GPS) Y RWY 36C, Amdt 1C.
12-Aug-21 | KY | Covington | Cincinnati/Northern Kentucky Intl | 1/4926 | 6/10/21 | RNAV (GPS) Y RWY 36L, Amdt 1C.
12-Aug-21 | KY | Covington | Cincinnati/Northern Kentucky Intl | 1/4927 | 6/10/21 | RNAV (GPS) Y RWY 36R, Amdt 1C.
12-Aug-21 | CA | Mammoth Lakes | Mammoth Yosemite | 1/5194 | 6/11/21 | RNAV (GPS) RWY 27, Amdt 1.
12-Aug-21 | ND | Williston | Williston Basin Intl | 1/5215 | 6/21/21 | RNAV (GPS) RWY 4, Orig.
12-Aug-21 | WI | Green Bay | Green Bay-Austin Straubel Intl | 1/5508 | 4/27/21 | ILS OR LOC RWY 6, Amdt 21D.
12-Aug-21 | WI | Green Bay | Green Bay-Austin Straubel Intl | 1/5509 | 4/27/21 | RNAV (GPS) RWY 24, Amdt 1A.
12-Aug-21 | WI | Green Bay | Green Bay-Austin Straubel Intl | 1/5510 | 4/27/21 | VOR-A, Orig-B.
12-Aug-21 | WI | Green Bay | Green Bay-Austin Straubel Intl | 1/5511 | 4/27/21 | LOC BC RWY 24, Amdt 19C.
12-Aug-21 | WI | Green Bay | Green Bay-Austin Straubel Intl | 1/5514 | 4/27/21 | ILS OR LOC RWY 36, Amdt 9A.
12-Aug-21 | IL | Marion | Veterans Airport Of Southern Illinois | 1/5757 | 6/18/21 | RNAV (GPS) RWY 20, Amdt 1D.
12-Aug-21 | IL | Marion | Veterans Airport Of Southern Illinois | 1/5759 | 6/18/21 | RNAV (GPS) RWY 2, Amdt 1D.
12-Aug-21 | IL | Marion | Veterans Airport Of Southern Illinois | 1/5760 | 6/18/21 | ILS OR LOC RWY 20, Amdt 12C.
12-Aug-21 | IL | Pontiac | Pontiac Muni | 1/5897 | 6/3/21 | VOR RWY 24, Amdt 2.
12-Aug-21 | IL | Pontiac | Pontiac Muni | 1/5898 | 6/3/21 | RNAV (GPS) RWY 24, Orig.
12-Aug-21 | IL | Pontiac | Pontiac Muni | 1/5899 | 6/3/21 | RNAV (GPS) RWY 6, Orig-A.
12-Aug-21 | GA | Dalton | Dalton Muni | 1/5940 | 5/17/21 | RNAV (GPS) RWY 32, Amdt 1.
12-Aug-21 | MN | St James | St James Muni | 1/6101 | 6/8/21 | RNAV (GPS) RWY 15, Amdt 1A.
12-Aug-21 | MN | St James | St James Muni | 1/6102 | 6/8/21 | RNAV (GPS) RWY 33, Amdt 1A.
12-Aug-21 | KY | Somerset | Lake Cumberland Rgnl | 1/6193 | 4/15/21 | Takeoff Minimum and Obstacle DP, Amdt 4.
12-Aug-21 | NY | Rome | Griffiss Intl | 1/6391 | 5/17/21 | RNAV (GPS) RWY 15, Amdt 1B.
12-Aug-21 | NY | Rome | Griffiss Intl | 1/6403 | 5/17/21 | RNAV (GPS) RWY 33, Amdt 2A.
12-Aug-21 | MO | Kaiser/Lake Ozark | Lee C Fine Meml | 1/6407 | 6/8/21 | LOC/DME RWY 22, Amdt 2A.
12-Aug-21 | MO | Kaiser/Lake Ozark | Lee C Fine Meml | 1/6410 | 6/8/21 | RNAV (GPS) RWY 22, Amdt 1A.
12-Aug-21 | MO | Kaiser/Lake Ozark | Lee C Fine Meml | 1/6413 | 6/8/21 | VOR RWY 4, Amdt 7B.
12-Aug-21 | WI | Platteville | Platteville Muni | 1/6737 | 4/29/21 | RNAV (GPS) RWY 33, Orig.
12-Aug-21 | WI | Platteville | Platteville Muni | 1/6740 | 4/29/21 | RNAV (GPS) RWY 25, Orig-A.
12-Aug-21 | WI | Platteville | Platteville Muni | 1/6741 | 4/29/21 | RNAV (GPS) RWY 15, Orig.
12-Aug-21 | WI | Platteville | Platteville Muni | 1/6742 | 4/29/21 | RNAV (GPS) RWY 7, Orig-C.
12-Aug-21 | TX | Center | Center Muni | 1/6845 | 4/8/21 | NDB RWY 17, Amdt 2B.
12-Aug-21 | TX | Center | Center Muni | 1/6846 | 4/8/21 | RNAV (GPS) RWY 35, Orig-C.
12-Aug-21 | TX | Center | Center Muni | 1/6847 | 4/8/21 | RNAV (GPS) RWY 17, Orig-D.
12-Aug-21 | MS | Indianola | Indianola Muni | 1/6879 | 4/16/21 | RNAV (GPS) RWY 18, Amdt 2A.
12-Aug-21 | MS | Indianola | Indianola Muni | 1/6880 | 4/16/21 | RNAV (GPS) RWY 36, Amdt 2A.
12-Aug-21 | MS | Indianola | Indianola Muni | 1/6881 | 4/16/21 | VOR/DME-A, Amdt 9C.
12-Aug-21 | MS | Indianola | Indianola Muni | 1/6882 | 4/16/21 | VOR/DME-B, Amdt 5C.
12-Aug-21 | AL | Bessemer | Bessemer | 1/6883 | 4/16/21 | ILS OR LOC RWY 5, Amdt 2A.
12-Aug-21 | AL | Bessemer | Bessemer | 1/6884 | 4/16/21 | RNAV (GPS) RWY 23, Orig-A.
12-Aug-21 | AL | Bessemer | Bessemer | 1/6885 | 4/16/21 | RNAV (GPS) RWY 5, Amdt 1A.
12-Aug-21 | AL | Bessemer | Bessemer | 1/6886 | 4/16/21 | VOR RWY 5, Amdt 6A.
12-Aug-21 | UT | Manti | Manti-Ephraim | 1/7075 | 4/9/21 | RNAV (GPS) RWY 3, Orig-A.
12-Aug-21 | FL | Marathon | The Florida Keys Marathon Intl | 1/7151 | 6/16/21 | RNAV (GPS) RWY 25, Amdt 1A.
12-Aug-21 | GA | Columbus | Columbus | 1/7153 | 6/4/21 | ILS OR LOC RWY 6, Amdt 25C.
12-Aug-21 | GA | Columbus | Columbus | 1/7154 | 6/4/21 | VOR-A, Amdt 23B.
12-Aug-21 | GA | Columbus | Columbus | 1/7156 | 6/4/21 | RNAV (GPS) RWY 24, Orig-C.
12-Aug-21 | GA | Columbus | Columbus | 1/7157 | 6/4/21 | RNAV (GPS) RWY 13, Orig-C.
12-Aug-21 | GA | Columbus | Columbus | 1/7159 | 6/4/21 | RNAV (GPS) RWY 6, Orig-B.
12-Aug-21 | NC | Winston Salem | Smith Reynolds | 1/7160 | 6/4/21 | RNAV (GPS) RWY 33, Orig-D.
12-Aug-21 | MN | Faribault | Faribault Muni-Liz Wall Strohfus Fld | 1/7287 | 6/8/21 | VOR-A, Amdt 6B.
12-Aug-21 | TX | Andrews | Andrews County | 1/7579 | 6/22/21 | RNAV (GPS) RWY 16, Orig-A.
12-Aug-21 | TX | Carthage | Panola County-Sharpe Fld | 1/7656 | 6/10/21 | NDB RWY 35, Amdt 2A.
12-Aug-21 | MN | Ada/Twin Valley | Norman County Ada/Twin Valley | 1/7887 | 6/23/21 | RNAV (GPS) RWY 33, Orig-B.
12-Aug-21 | CT | Chester | Chester | 1/8008 | 5/27/21 | RNAV (GPS) RWY 17, Orig-A.
12-Aug-21 | CT | Chester | Chester | 1/8009 | 5/27/21 | RNAV (GPS) RWY 35, Orig-A.
12-Aug-21 | IL | Chicago/Lake In The Hills | Lake In The Hills | 1/8225 | 6/8/21 | VOR RWY 26, Amdt 4A.
12-Aug-21 | HI | Lanai City | Lanai | 1/8227 | 6/15/21 | ILS OR LOC RWY 3, Amdt 1B.
12-Aug-21 | HI | Lanai City | Lanai | 1/8228 | 6/15/21 | RNAV (GPS) RWY 3, Orig-C.
12-Aug-21 | HI | Lanai City | Lanai | 1/8229 | 6/15/21 | VOR OR TACAN RWY 3, Amdt 7B.
12-Aug-21 | HI | Lanai City | Lanai | 1/8231 | 6/15/21 | VOR OR TACAN OR GPS-A, Amdt 8A.
12-Aug-21 | GA | Blakely | Early County | 1/8232 | 6/8/21 | RNAV (GPS) RWY 5, Amdt 2A.
12-Aug-21 | GA | Blakely | Early County | 1/8233 | 6/8/21 | RNAV (GPS) RWY 23, Amdt 2A.
12-Aug-21 | AL | Cullman | Cullman Rgnl-Folsom Fld | 1/8345 | 5/4/21 | RNAV (GPS) RWY 20, Amdt 1B.
12-Aug-21 | NM | Alamogordo | Alamogordo-White Sands Rgnl | 1/8470 | 6/23/21 | RNAV (GPS) RWY 4, Amdt 2A.
12-Aug-21 | MI | Allegan | Padgham Fld | 1/8550 | 6/8/21 | RNAV (GPS) RWY 11, Orig-B.
12-Aug-21 | MI | Allegan | Padgham Fld | 1/8551 | 6/8/21 | RNAV (GPS) RWY 29, Orig-A.
12-Aug-21 | TX | Longview | East Texas Rgnl | 1/8556 | 6/8/21 | VOR/DME OR TACAN RWY 31, Amdt 7A.
12-Aug-21 | AZ | Page | Page Muni | 1/8787 | 6/15/21 | RNAV (GPS) RWY 15, Orig.
12-Aug-21 | AZ | Page | Page Muni | 1/8788 | 6/15/21 | RNAV (GPS) RWY 33, Orig.
12-Aug-21 | AZ | Page | Page Muni | 1/8789 | 6/15/21 | VOR-B, Orig-A.
12-Aug-21 | AL | Courtland | Courtland | 1/9204 | 6/10/21 | RNAV (GPS) RWY 13, Amdt 2A.
12-Aug-21 | AL | Courtland | Courtland | 1/9205 | 6/10/21 | RNAV (GPS) RWY 31, Amdt 2A.
12-Aug-21 | CA | Imperial | Imperial County | 1/9434 | 5/27/21 | VOR OR GPS-A, Amdt 4A.
12-Aug-21 | LA | Welsh | Welsh | 1/9528 | 5/25/21 | VOR/DME OR GPS RWY 7, Amdt 3B.
12-Aug-21 | IN | Portland | Portland Muni | 1/9605 | 5/25/21 | RNAV (GPS) RWY 9, Amdt 1A.
12-Aug-21 | IN | Portland | Portland Muni | 1/9609 | 5/25/21 | RNAV (GPS) RWY 27, Amdt 1A.
12-Aug-21 | TN | Rockwood | Rockwood Muni | 1/9634 | 6/10/21 | VOR/DME RWY 22 , Amdt 6B.
12-Aug-21 | TN | Rockwood | Rockwood Muni | 1/9635 | 6/10/21 | RNAV (GPS) RWY 22, Amdt 1A.
12-Aug-21 | TN | Rockwood | Rockwood Muni | 1/9636 | 6/10/21 | RNAV (GPS) RWY 4, Orig-A.
12-Aug-21 | QM | Midway Atoll | Henderson Fld | 1/9729 | 5/28/21 | RNAV (GPS) RWY 24, Orig-D.
12-Aug-21 | QM | Midway Atoll | Henderson Fld | 1/9730 | 5/28/21 | RNAV (GPS) RWY 6, Orig-D.
12-Aug-21 | QM | Midway Atoll | Henderson Fld | 1/9731 | 5/28/21 | NDB RWY 6, Orig-C.
12-Aug-21 | QM | Midway Atoll | Henderson Fld | 1/9732 | 5/28/21 | NDB RWY 24, Orig-C.
12-Aug-21 | AK | Cordova | Merle K (Mudhole) Smith | 1/9877 | 5/7/21 | ILS OR LOC RWY 27, Amdt 11C.
12-Aug-21 | AK | Cordova | Merle K (Mudhole) Smith | 1/9878 | 5/7/21 | RNAV (GPS) RWY 27, Amdt 2A.
12-Aug-21 | AK | Cordova | Merle K (Mudhole) Smith | 1/9879 | 5/7/21 | RNAV (GPS)-B, Amdt 2.
12-Aug-21 | AK | Atka | Atka | 1/9894 | 5/12/21 | RNAV (GPS)-A, Orig-A.
12-Aug-21 | NM | Portales | Portales Muni | 1/9903 | 5/7/21 | RNAV (GPS) RWY 1, Orig.
12-Aug-21 | IA | Sac City | Sac City Muni | 1/9955 | 5/21/21 | RNAV (GPS) RWY 18, Orig-A.

[FR Doc. 2021-14816 Filed 7-12-21; 8:45 am]

BILLING CODE 4910-13-P